RAILROAD RETIREMENT BOARD

Privacy Act of 1974; Proposed Changes to Systems of Records

AGENCY: Railroad Retirement Board (RRB).

ACTION: Notice of proposed changes to a system of records.

SUMMARY: The purpose of this document is to give notice of a proposed addition to the categories of records in one system of records and a proposed new routine use for the same system of records.

DATES: The amendment to the categories of records and the proposed routine use shall become effective as proposed without further notice in 40 calendar days from the date of this publication unless comments are received that would result in a contrary determination.

ADDRESSES: Send comments to Beatrice Ezerski, Secretary to the Board, Railroad Retirement Board, 844 North Rush Street, Chicago, Illinois 60611-2092.

FOR FURTHER INFORMATION CONTACT: LeRoy Bloommaert, Privacy Act Officer, Railroad Retirement Board, 844 North Rush Street, Chicago, Illinois 60611-2092, (312) 751-4548, e-mail BLOMMLF@RRB.GOV

SUPPLEMENTARY INFORMATION: Effective October 1, 2000, the Railroad Retirement Board plans to implement a program under which its employees can elect a reduction in their compensation in exchange for tax-free commuting benefits. Employees who use mass (i.e. subway, bus, rail) for commuting to and from work, or who commute in a car pool are eligible to receive tax benefits for qualifying transportation expenditures by participating in the RRB's Transit Benefit Program. Employees who elect to participate in this program will be required to submit adequate documentation for certain types of transit expenditures. Such documentation cannot be considered within the scope of time, leave and payroll information; hence, the need to amend this system of records to reflect the new category of information collected and maintained.

The proposed routine use will allow the RRB to furnish the documentation to the Internal Revenue Service as needed for tax administration purposes.

On August 24, 2000, the Railroad Retirement Board filed an altered system report for this system with the chairmen of the designated Senate and House committees and with the Office of Management and Budget. This was done to comply with section 3 of the Privacy Act of 1974 and OMB Circular No. A-130, Appendix I.

By authority of the Board.
Beatrice Ezerski,
Secretary to the Board.

RRB-19

System Name:

Payroll Record System—RRB.

* * * * *

This section is revised to read as follows:

Categories of Records in the System:

Time, leave, payroll information, and supporting documentation relating to participation in the agency's transit benefit program.

* * * * *

A new section is added to read as follows:

Routine Uses of Records Maintained in the System, Including Categories of Users and the Purposes of Such Uses:

* * * * *

k. Transit benefit program documentation may be furnished to the Internal Revenue Service for tax administration purposes.

[FR Doc. 00-22460 Filed 8-31-00; 8:45 am]

BILLING CODE 7905-01-M